DEPARTMENT OF ENERGY

Federal Energy Regulatory Commission

[Project No. 12429-001]

Clark Canyon Hydro, LLC; Notice of Application Ready for Environmental Analysis and Soliciting Comments, Recommendations, Terms and Conditions, and Prescriptions

October 16, 2008.

Take notice that the following hydroelectric application has been filed with the Commission and is available for public inspection.

a. Type of Application: Major License.

b. Project No.: 12429-001.

c. Date Filed: August 1, 2006.

d. Applicant: Clark Canyon Hydro, LLC.

e. Name of Project: Clark Canyon Dam Hydroelectric Project.

f. Location: On the Beaverhead River, 18 air miles southwest of the Town of Dillon, Beaverhead County, Montana. The project would occupy 1.15 acres of federal land administered by the Bureau of Reclamation.

g. Filed Pursuant to: Federal Power Act 16 U.S.C. 791(a)-825(r).

h. Applicant Contact: Brent L. Smith, Northwest Power Services, Inc., P.O. Box 535, Rigby, ID 83442, (208) 745-0834, or Dr. Vincent Lamarra, Ecosystems Research Institute, Inc., 975 South State Highway, Logan, UT 84321.

i. FERC Contact: Dianne Rodman, (202) 502-6077, Dianne.rodman@ferc.gov.

j. Deadline for filing comments, recommendations, terms and conditions, and prescriptions is 60 days from the issuance date of this notice; reply comments are due 105 days from the issuance date of this notice.

All documents (original and eight copies) should be filed with: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Comments, recommendations, terms and conditions, and prescriptions may be filed electronically via the Internet in lieu of paper. The Commission strongly encourages electronic filings. See 18 CFR 385.2001(a)(1)(iii) and the instructions on the Commission's Web site (http://www.ferc.gov) under the “e-Filing” link.

k. This application has been accepted and is now ready for environmental analysis.

l. The proposed project would use the existing Bureau of Reclamation's Clark Canyon Dam, and would consist of the following new facilities: (1) Steel lining of the existing 9-foot-diameter concrete outlet conduit with a bifurcation to the new powerhouse; (2) a 30- by 18-foot outlet gate structure constructed at the end of the existing outlet conduit, with an 84-inch-diameter flow-through valve and a 108-inch-diameter isolation valve; (3) a 9-foot-diameter steel penstock that would divide into an 8-foot-diameter penstock and a 6-foot-diameter steel penstock to direct flow to the turbine units; (4) a 30- by 50-foot concrete powerhouse, located at the toe of the dam adjacent to the spillway stilling basin, containing two vertical-type Francis turbines with a combined installed capacity of 4.75 megawatts; (5) a 300-foot-long access road leading to a 30- by 30-foot concrete parking and transformer pad adjacent to the powerhouse; (6) a 0.3-mile-long, 24.9-kilovolt overhead transmission line connecting the project to the local utility's existing transmission system at a proposed substation; and (7) appurtenant facilities. The average annual generation is estimated to be 16.5 gigawatt hours.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll free at (866) 208-3676, or for TTY, (202) 502-8659. A copy is also available for inspection and reproduction at the address in item h above.

All filings must (1) bear in all capital letters the title “COMMENTS,” “REPLY COMMENTS,” “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions, or prescriptions must set forth their evidentiary basis and otherwise comply with the requirements of 18 CFR 4.34(b). Agencies may obtain copies of the application directly from the applicant. Each filing must be accompanied by proof of service on all persons listed in the service list prepared by the Commission in this proceeding, in accordance with 18 CFR 4.34(b) and 385.2010.

You may also register online at http://www.ferc.gov/docs-filing/esubscription.asp to be notified via e-mail of new filings and issuances related to this or other pending projects. For assistance, contact FERC Online Support.

n. A license applicant must file not later than 60 days following the date of issuance of this notice: (1) A copy of the water quality certification; (2) a copy of the request for certification, including proof of the date on which the certifying agency received the request; or (3) evidence of waiver of water quality certification.

o. Public notice of the filing of the initial development application, which has already been given, established the due date for filing competing applications or notices of intent. Under the Commission's regulations, any competing development application must be filed in response to and in compliance with public notice of the initial development application. No competing applications or notices of intent may be filed in response to this notice.

p. Procedural Schedule: The Commission staff proposes to issue a single Environmental Assessment (EA) rather than issuing a draft and final EA. Staff intends to allow at least 30 days for entities to comment on the EA. The Commission will take into consideration all comments received on the EA before taking final action on the license application. The application will be processed according to the following schedule, but revisions to the schedule may be made as appropriate:

Milestone | Tentative date
Comments, recommendations, terms and conditions, and prescriptions due | December 15, 2008.
Reply comments due from applicant | January 29, 2009.
EA issuance | April 2009.

Kimberly D. Bose,
Secretary.

[FR Doc. E8-25136 Filed 10-21-08; 8:45 am]

BILLING CODE 6717-01-P